DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee.

DATES: Meeting of Invasive Species Advisory Committee: 9:30 a.m., Monday, May 6, 2002 and 8:30 a.m., Tuesday, May 7, 2002.

ADDRESSES: William F. Bolger Center for Leadership and Development, 9600 Newbridge Drive, Potomac, MD 20854-4436. Meetings on both days will be held in Room 200 (Second Floor) of the Main Building.

FOR FURTHER INFORMATION CONTACT: Kelsey Passé, National Invasive Species Council Program Analyst; Phone: (202) 208-6336; Fax: (202) 208-1526.

SUPPLEMENTARY INFORMATION: The purpose of the Advisory Committee is to provide advice to the National Invasive Species Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on May 6-7, 2002 is to convene the full Advisory Committee (appointed by Secretary Norton on April 1, 2002); and to discuss implementation of action items outlined in the National Invasive Species Management Plan, which was finalized on January 18, 2001.

Dated: April 9, 2002.
Lori Williams,
Executive Director, National Invasive Species Council.

[FR Doc. 02-8991 Filed 4-15-02; 8:45 am]

BILLING CODE 4310-RK-P